DEPARTMENT OF AGRICULTURE

Forest Service

Salmon-Challis National Forest, Idaho; Salmon-Challis National Forest Travel Management Plan and Off-highway Vehicle Designation

AGENCY: Forest Service, USDA.

ACTION: Revised Notice of Intent to prepare an environmental impact statement.

SUMMARY: On August 3, 2007 (72 FR 43223), the USDA, Forest Service published in the Federal Register a Notice of Intent (NOI) to prepare an environmental impact statement to designate a portion of the National Forest roads, trails, and areas open to public motor vehicle use on the Salmon-Challis National Forest (SCNF), and assign the type of use(s) and season of use allowed on each road and trail or portion thereof. The Forest Service is revising the proposed action to correct inconsistencies with the Salmon National Forest and Challis National Forest Land and Resource Management plans, correct errors in the mileages of roads and motorized trails described in the original proposed action, and announce a 60-day public comment period, rather than a 45-day public comment period on the Draft EIS.

DATES: Written comments concerning the revised proposed action should be received by June 13, 2008. The draft environmental impact statement is expected to be released in July 2008 and the final environmental impact statement is expected in March 2009.

ADDRESSES: Send or e-mail written comments to Salmon-Challis National Forest, ATTN: Travel Management Planning, 1206 South Challis Street, Salmon, ID 83467; e-mail comments-intermtn-salmon-challis@fs.fed.us.

FOR FURTHER INFORMATION CONTACT: Karen Gallogly, Travel Planning Team Leader, Salmon-Challis National Forest, 1206 South Challis Street, Salmon, ID 83467. Telephone: (208) 756-5103.

SUPPLEMENTARY INFORMATION: Further information about the proposal can be found in the original NOI published in the Federal Register, Vol. 72, No.149, pp. 43223-43225, on August 3, 2007. This Revised Notice of Intent modifies the proposed action as defined in the original Notice of Intent to correct the proposed miles of designated roads from about 3,400 miles to about 2,300 miles and about 1,100 miles of motorized trails to about 900 miles. The revised proposed action also corrects project inconsistencies with the Salmon National and the Challis National Forest Land and Resource Management plans and announces a 60-day public comment period on the Draft EIS.

Maps and data tables displaying the roads and motorized trails proposed for designation in the revised proposed action and a list of changes from the original proposed action are posted on the SCNF Web site at: http://www.fs.fed.us/r4/sc/.

Responsible Official

William A. Wood, Supervisor, Salmon-Challis National Forest, Headquarters Office, 1206 South Challis Street, Salmon, Idaho 83467, is the responsible official for making the decision and providing direction for the analysis.

Nature of Decision To Be Made

Based on the purpose and need for the proposal, the Forest Supervisor will evaluate the revised proposed action and other alternatives to decide which roads, trails and areas will be designated as open to the public for motorized use and the allowed season and/or type of use for those routes open to motorized travel.

Federal land managers are directed (Executive Order 11644, 36 CFR 212 and 43 CFR 8342.1) to ensure that the use of motorized vehicles and off-road vehicles will be controlled and directed so as to protect the resources of those lands, to promote the safety of users, minimize conflicts among the the various uses of federal lands, and to provide for public use of roads and trails designated as open.

Scoping Process

In August 2007, the Forest Service issued an earlier version of the proposed action. Many public comments requesting better quality and more accurate proposed action maps were received. During the fall and winter of 2007-2008, Geographic Information Systems (GIS) and associated databases were upgraded and refined to improve the quality and accuracy of the maps and information needed for detailed analysis. As a result, errors in the mileages of roads and motorized trails described in the proposed action and inconsistencies with direction in the forest plans were discovered. Public comment received during the initial scoping period along with resource-related input from the interdisciplinary team and other agency resource specialists was used to identify a set of issues to carry forward into the environmental analysis.

Comment Requested

This notice of intent initiates the final phase of the scoping process which guides the development of the EIS. The Forest Service is requesting any new scoping comments related to the revised proposed action and its potential effects on the quality of the human environment. All comments received during the initial comment period (April 2006-March 2007) are being retained and considered as potentially relevant to the revised proposed action; such comments do not need to be resubmitted unless there are changes or additions. Any new or additional comments about the revised proposed action would be most useful if received by June 13, 2008. Persons and organizations commenting during the intitial scoping will be maintained on the mailing list for future information about Salmon-Challis National Forest Travel Management Planning.

Early Notice of Importance of Public Participation in Subsequent Environmental Review

A draft environmental impact statement will be prepared for comment in July 2008. The comment period on the draft environmental impact statement will be 60 days from the date the Environmental Protection Agency (EPA) publishes the notice of availability in the Federal Register. Written comments are preferred and should include the name and address of the commenter. Comments submitted for this revised proposed action will be considered part of the public record.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60-day comment period so that substantive comments and objections are made available to the Forest Service at a time when it can meaningfully consider them and respond to them in the final environmental impact statement.

To assist the Forest Service in identifying and considering issues and concerns on the revised proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: May 22, 2008.
Larry A. Svalberg,
Acting Forest Supervisor.

[FR Doc. E8-12157 Filed 5-29-08; 8:45 am]

BILLING CODE 3410-11-P